DEPARTMENT OF DEFENSE

Office of the Secretary

Defense Business Board; Notice of Federal Advisory Committee Meeting

AGENCY: Deputy Chief Management Officer, Department of Defense.

ACTION: Notice of Federal Advisory Committee meeting.

SUMMARY: The Department of Defense (DoD) is publishing this notice to announce that the following Federal Advisory Committee meeting of the Defense Business Board will take place.

DATES: Open to the public on Wednesday, December 6, 2017 from 11:00 a.m. to 12:00 p.m.

ADDRESSES: The address for the open meeting is Room 3E928 in the Pentagon, Washington, DC.

FOR FURTHER INFORMATION CONTACT: Roma Laster, (703) 695-7563 (Voice), (703) 614-4365 (Facsimile), roma.k.laster.civ@mail.mil (Email). Mailing address is Defense Business Board, 1155 Defense Pentagon, Room 5B1088A, Washington, DC 20301-1155, Web site: http://dbb.defense.gov/. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

For meeting information please contact Mr. Steven Cruddas, Defense Business Board, 1155 Defense Pentagon, Room 5B1088A, Washington, DC 20301-1155, steven.m.cruddas.civ@mail.mil, (703) 697-2168. To submit written comments or questions to the Defense Business Board (Board), send via email to mailbox address: osd.pentagon.odam.mbx.defense-business-board@mail.mil. A copy of the public agenda and the terms of reference for the Task Group study may be obtained from the Board's Web site at http://dbb.defense.gov/meetings.

Purpose of the Meeting: The mission of the Board is to examine and advise the Secretary of Defense on overall DoD management and governance. The Board provides independent advice which reflects an outside private sector perspective on proven and effective best business practices that can be applied to DoD. The Board will receive an out brief, findings, and recommendations from its Task Group on the study “Fully Burdened and Life Cycle Cost of the Workforce.”

Agenda: 11:00 a.m.-11:05 a.m. DFO Comments to Public Attendees; 11:05 a.m.-11:45 a.m. DBB Study Out brief on “Fully Burdened and Life Cycle Cost of the Workforce”; 11:45 a.m.-11:50 a.m. Public Comments (if time permits); 11:50 a.m.-12:00 p.m. Board Deliberations and Vote.

Meeting Accessibility: Pursuant to 5 U.S.C. 552b, as amended, and 41 CFR 102-3.140 through 102-3.165, this meeting is open to the public, subject to the availability of space. Seating is limited and is on a first-come basis.

Written Statements: Written comments should be received by the Designated Federal Officer (DFO) at least five (5) business days prior to the meeting date so that the comments may be made available to the Board for their consideration prior to the meeting. Written comments should be submitted via email to the email address for public comments given in the SUPPLEMENTARY INFORMATION section in either Adobe Acrobat or Microsoft Word format. Please note that since the Board operates under the provisions of the FACA, as amended, all submitted comments and public presentations will be treated as public documents and will be made available for public inspection, including, but not limited to, being posted on the Board's Web site.

Dated November 17, 2017.
Aaron Siegel,
Alternate OSD Federal Register Liaison Officer, Department of Defense.

[FR Doc. 2017-25259 Filed 11-21-17; 8:45 am]

BILLING CODE 5001-06-P